NUCLEAR REGULATORY COMMISSION

Termination of Uranium Milling Licenses in Agreement States; Notice of Availability of Final Revision of NRC Procedure, and Analysis of Public Comments

AGENCY: Nuclear Regulatory Commission.

ACTION: Notice of availability.

SUMMARY: The U.S. Nuclear Regulatory Commission (NRC) is announcing the availability of a final revision of the Office of State and Tribal Programs (STP) Procedure SA-900: “Termination of Uranium Milling Licenses in Agreement States,” and an analysis of comments: “Responses to Comments on the Draft Revision of STP Procedure SA-900.” The procedure describes the NRC review process for making determinations that all applicable standards and requirements have been met prior to Agreement State uranium milling license termination.

ADDRESSES: Electronic copies of the documents are available for public inspection in the NRC Public Document Room or from the Public Available Records (PARS) component of NRC's document system (ADAMS). ADAMS is accessible from the NRC Web site at http://www.nrc.gov/reading-rm/adams.html (The Public Electronic Reading Room). The final revised STP Procedure SA-900 and the analysis of comments are under Adams Accession Number ML030170429. The final revised STP Procedure SA-900 is also available on the NRC STP external Web site at: http://www.hsrd.ornl.gov/nrc/procedures/sa900.pdf.

FOR FURTHER INFORMATION CONTACT: Kevin Hsueh, Mail Stop: O-3C10, Office of State and Tribal Programs, U.S. Nuclear Regulatory Commission, Washington, DC 20555-0001, Telephone 301-415-2598, or E-mail KPH@NRC.GOV.

SUPPLEMENTARY INFORMATION: On March 29, 2001, the NRC published a notice in the Federal Register (66 FR 17206) announcing the formation of a Working Group composed of representatives from the NRC and Agreement States. The Working Group was tasked to identify areas that need improvements in the NRC concurrence process for uranium milling license termination in Agreement States, and propose a draft revised procedure that addresses issues identified by the Working Group and stakeholders.

The Working Group, consisting of five representatives from the Agreement States, three NRC representatives and an NRC resource representative, began work in April 2001. The Working Group held four teleconference calls and one public meeting with stakeholders in 2001. A draft revised STP Procedure SA-900, prepared by the Working Group, was published for public comment on August 23, 2001 in the Federal Register (66 FR 44389).

Based on the Working Group's evaluation and discussions, comments provided during the teleconference calls and the meeting with stakeholders, and comments received on the draft revised Procedure SA-900, the Working Group prepared and issued a final report in July 2002.

The final report includes a revised STP Procedure SA-900 and an analysis of public comments on the 2001 publication of the draft procedure.

Subsequently, on October 4, 2002, NRC published a notice in the Federal Register (67 FR 62274) announcing the availability of, and providing opportunity for comments on the revised STP Procedure SA-900, prepared by the Working Group. The NRC has prepared an analysis of public comments on the draft procedure: “Response to Comments on Draft Revision of STP Procedure SA-900.” All comments received have been considered in preparation of the final procedure. The final STP Procedure SA-900 was issued on December 31, 2002.

Dated at Rockville, Maryland this 17th day of January, 2003.
For the Nuclear Regulatory Commission.
Josephine M. Piccone,
Deputy Director, Office of State and Tribal Programs.

[FR Doc. 03-1751 Filed 1-24-03; 8:45 am]

BILLING CODE 7590-01-P